DEPARTMENT OF EDUCATION

Notice of Waivers Granted Under Section 3511 of the Coronavirus Aid, Relief, and Economic Security (CARES) Act

AGENCY: Office of Elementary and Secondary Education, Department of Education.

ACTION: Notice.

SUMMARY: In this notice, we announce waivers that the U.S. Department of Education (Department) granted, within the last 30 days, under the CARES Act.

FOR FURTHER INFORMATION CONTACT: Patrick Rooney, U.S. Department of Education, 400 Maryland Avenue SW, Room 3W202, Washington, DC 20202. Telephone: (202) 453-5514. Email: Patrick.Rooney@ed.gov.

If you use a telecommunications device for the deaf (TDD) or a text telephone (TTY), call the Federal Relay Service (FRS), toll free, at 1-800-877-8339.

SUPPLEMENTARY INFORMATION: Section 3511(d)(3) of the CARES Act requires the Secretary to publish, in the Federal Register and on the Department's website, a notice of the Secretary's decision to grant a waiver under that section. The Secretary must publish this notice no later than 30 days after granting the waiver and the notice must include which waiver was granted and the reason for granting the waiver. This notice fulfills the Department's obligation under section 3511(d)(3).

Waiver Data

As described in more detail below, the Department waived, for State educational agencies (SEAs) from each of the 50 States, Puerto Rico, and the District of Columbia, and for the Bureau of Indian Education (BIE), some or all of the following requirements:

• Section 1127(b) of Title I, Part A of the Elementary and Secondary Education Act of 1965, as amended (ESEA), so that an SEA may waive, more than once every three years, if necessary, the 15 percent carryover limitation in ESEA section 1127(a) for fiscal year (FY) 2019 Title I, Part A funds.

• Section 421(b) of the General Education Provisions Act (GEPA) to extend the period of availability of FY 2018 funds for programs in which an SEA participates under its approved consolidated State plan until September 30, 2021. The programs include:

○ Title I, Part A of the ESEA (Improving Basic Programs Operated by LEAs), including the portions of an SEA's Title I, Part A award used to carry out section 1003 school improvement, section 1003A direct student services, if applicable, and Title I, Part D, Subpart 2.

○ Title I, Part B of the ESEA (State Assessment Formula Grants).

○ Title I, Part C of the ESEA (Education of Migratory Children).

○ Title I, Part D, Subpart 1 of the ESEA (Prevention and Intervention Programs for Children and Youth Who Are Neglected, Delinquent, or At Risk).

○ Title II, Part A of the ESEA (Supporting Effective Instruction).

○ Title III, Part A of the ESEA (English Language Acquisition, Language Enhancement, and Academic Achievement).

○ Title IV, Part A of the ESEA (Student Support and Academic Enrichment Grants).

○ Title IV, Part B of the ESEA (21st Century Community Learning Centers).

○ Title V, Part B, Subpart 2 of the ESEA (Rural and Low-Income School Program).

○ McKinney-Vento Education for Homeless Children and Youth Program.

• Section 4106(d) of Title IV, Part A of the ESEA related to local educational agency (LEA) needs assessments for the 2019-2020 school year.

• Section 4106(e)(2)(C), (D), and (E) of Title IV, Part A of the ESEA with respect to content-area spending requirements for FYs 2018 and 2019 Title IV, Part A funds.

• Section 4109(b) of Title IV, Part A of the ESEA with respect to the spending limitation for technology infrastructure for FYs 2018 and 2019 Title IV, Part A funds.

• Section 8101(42) of the ESEA, which defines “professional development,” for activities funded for the 2019-2020 school year.

Reasons: Due to the extraordinary circumstances caused by the COVID-19 pandemic and resulting school closures, the Department invited SEAs to request waivers to provide fiscal and operational flexibility and to help SEAs and LEAs in their planning for how to resume education. The waivers provide an SEA the ability to approve an LEA to carry over more than 15 percent of its Title I, Part A funds, even if the LEA had received approval to exceed this limitation in the past three years. An SEA would be able to extend for itself and its subgrantees the period of availability of FY 2018 funds for programs included in its consolidated State plan to allow additional time to obligate those funds. An SEA would also be able to permit an LEA or consortium of LEAs to use its Title IV, Part A funds to best meet its needs without regard to content-area spending requirements, spending limits on technology infrastructure, or completing a needs assessment. Finally, by waiving the definition of professional development, an SEA and its subgrantees would be able to conduct time-sensitive, one-time or stand-alone professional development focused on supporting educators to provide effective distance learning.

Waiver Applicants:

SEAs from all 50 States, the District of Columbia, Puerto Rico, and BIE requested and received these waivers. Each received all of the waivers listed above, with the following exceptions:

• Title I, Part B: Vermont did not request a waiver under section 421(b) of GEPA to extend the period of availability of FY 2018 funds.

• Title I, Part C: BIE, Connecticut, the District of Columbia, Puerto Rico, Rhode Island, West Virginia, and Wyoming did not request a waiver under section 421(b) of GEPA to extend the period of availability of FY 2018 funds.

• Title I, Part D, Subpart 1: BIE, South Dakota, and Vermont did not request a waiver under section 421(b) of GEPA to extend the period of availability of FY 2018 funds.

• Title III, Part A: BIE did not request a waiver under section 421(b) of GEPA to extend the period of availability of FY 2018 funds.

• Title V, Part B, Subpart 2: Alaska, Connecticut, Delaware, the District of Columbia, Hawaii, Puerto Rico, and Rhode Island did not receive a waiver under section 421(b) of GEPA to extend the period of availability of FY 2018 funds.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Frank T. Brogan,
Assistant Secretary for Elementary and Secondary Education.

[FR Doc. 2020-10563 Filed 5-15-20; 8:45 am]

BILLING CODE 4000-01-P